DEPARTMENT OF AGRICULTURE

Agricultural Marketing Service

7 CFR Part 989

[Docket No. FV00-989-1 FR]

Raisins Produced From Grapes Grown in California; Changes in Reporting Requirements

AGENCY: Agricultural Marketing Service, USDA.

ACTION: Final rule.

SUMMARY: This rule changes the reporting requirements specified under the administrative rules and regulations of the Federal marketing order for California raisins (order). The order regulates the handling of raisins produced from grapes grown in California and is administered locally by the Raisin Administrative Committee (Committee). This rule makes minor changes to two reports submitted by handlers regarding the receipt and disposition of non-California raisins (raisins produced from grapes grown outside California). These changes will reduce the reporting burden on handlers and provide the Committee with better information on non-California raisins.

EFFECTIVE DATE: August 1, 2000.

FOR FURTHER INFORMATION CONTACT: Maureen T. Pello, Marketing Specialist, California Marketing Field Office, Marketing Order Administration Branch, Fruit and Vegetable Programs, AMS, USDA, 2202 Monterey Street, suite 102B, Fresno, California 93721; telephone: (559) 487-5901, Fax: (559) 487-5906; or George Kelhart, Technical Advisor, Marketing Order Administration Branch, Fruit and Vegetable Programs, AMS, USDA, room 2525-S, P.O. Box 96456, Washington, DC 20090-6456; telephone: (202) 720-2491, or Fax: (202) 720-5698.

Small businesses may request information on complying with this regulation by contacting Jay Guerber, Marketing Order Administration Branch, Fruit and Vegetable Programs, AMS, USDA, P.O. Box 96456, room 2525-S, Washington, DC 20090-6456; telephone: (202) 720-2491, Fax: (202) 720-5698, or E-mail: Jay.Guerber@usda.gov.

SUPPLEMENTARY INFORMATION: This final rule is issued under Marketing Agreement and Order No. 989 (7 CFR part 989), both as amended, regulating the handling of raisins produced from grapes grown in California, hereinafter referred to as the “order.” The order is effective under the Agricultural Marketing Agreement Act of 1937, as amended (7 U.S.C. 601-674), hereinafter referred to as the “Act.”

The Department of Agriculture (Department) is issuing this rule in conformance with Executive Order 12866.

This final rule has been reviewed under Executive Order 12988, Civil Justice Reform. This rule is not intended to have retroactive effect. This rule will not preempt any State or local laws, regulations, or policies, unless they present an irreconcilable conflict with this rule.

The Act provides that administrative proceedings must be exhausted before parties may file suit in court. Under section 608c(15)(A) of the Act, any handler subject to an order may file with the Secretary a petition stating that the order, any provision of the order, or any obligation imposed in connection with the order is not in accordance with law and request a modification of the order or to be exempted therefrom. A handler is afforded the opportunity for a hearing on the petition. After the hearing, the Secretary would rule on the petition. The Act provides that the district court of the United States in any district in which the handler is an inhabitant, or has his or her principal place of business, has jurisdiction in equity to review the Secretary's ruling on the petition, provided an action is filed not later than 20 days after the date of the entry of the ruling.

This final rule changes the reporting requirements specified under the order. This rule makes minor modifications to two reports submitted by handlers regarding the receipt and disposition of non-California raisins. The Committee collects these reports to track non-California raisins and help ensure that only California raisins are used in programs authorized under the order. These changes reduce the reporting burden on handlers and provide the Committee with better information on non-California raisins. This action was unanimously recommended by the Committee at a meeting on November 10, 1999.

Section 989.73(d) of the order provides authority for the Committee, with the approval of the Secretary, to request handlers to furnish to the Committee such other information as may be necessary to enable it to exercise its powers and perform its duties. Handlers are required to submit various reports regarding California raisins, including receipts, disposition, transfers to other handlers, and the like. This information is used by the Committee in making various program decisions such as those regarding volume regulation and the handler assessment rate for funding program activities.

In addition, § 989.173 requires handlers to report to the Committee their receipt and disposition of raisins produced from grapes grown outside the State of California. Authority to collect information on raisins other than those produced in California was added to the regulations in 1990 to help ensure that only California raisins are used in various programs operated under the order.

For example, an export program is authorized under the order to promote the sale of California raisins in export markets. This program is usually in effect when volume regulation is implemented under the order. When volume regulation is in effect, a certain percentage of the crop may be sold by handlers to any market (free tonnage) while the remaining percentage must be held by handlers in a reserve pool (or reserve) for the account of the Committee. Under the export program, handlers may receive raisins, at a reduced price, or cash back from the reserve pool to blend down the cost of the exported raisins, allowing handlers to be price competitive in export markets (prices in export markets are generally lower than the domestic market). The Committee wants to ensure that only California raisins are utilized in this program.

Paragraph (b)(7) of § 989.173 requires handlers to report receipts of non-California raisins. This information is reported on Form No. 500 and is due to the Committee on the eighth day of each month. Currently, handlers must categorize the net weight (pounds) of such raisins received as either natural condition (raw product) or packed (processed raisins) for the current month as well as a cumulative quantity from August 1, the beginning of the crop year.

The Committee recommended that such receipts not be categorized as natural condition or packed. This information is contained within other supporting documentation that handlers must also submit with their receipt report. Thus, the Committee would like to eliminate this duplication.

Paragraph (c)(3) of § 989.173 requires handlers to report the disposition of non-California raisins. This information is reported on Form No. 501 and is also due to the Committee on the eighth day of each month. Currently, handlers must report whether such raisins were disposed of in cartons, bags, or as bulk raisins. However, Committee staff has not found these categories useful in tracking non-California raisins. Thus, the Committee recommended eliminating this requirement.

In addition, the Committee recommended adding the requirement that handlers report the area of origin (country or state) of non-California raisins on the disposition report. Area of origin will help Committee staff match the disposition reports with the receipt reports, which already ask for area of origin. The Committee will thus be better able to track the inventory of non-California raisins.

These minor changes recommended by the Committee will reduce the reporting burden on handlers receiving and disposing of non-California raisins. Requiring handlers to report on their disposition form the origin of non-California raisins will allow the Committee to better track the inventory of such raisins. Accordingly, appropriate changes are made to paragraphs (b)(7) and (c)(3)(iv) of § 989.173.

Final Regulatory Flexibility Analysis and the Paperwork Reduction Act

Pursuant to requirements set forth in the Regulatory Flexibility Act (RFA), the Agricultural Marketing Service (AMS) has considered the economic impact of this action on small entities. Accordingly, AMS has prepared this final regulatory flexibility analysis.

The purpose of the RFA is to fit regulatory actions to the scale of business subject to such actions in order that small businesses will not be unduly or disproportionately burdened. Marketing orders issued pursuant to the Act, and rules issued thereunder, are unique in that they are brought about through group action of essentially small entities acting on their own behalf. Thus, both statutes have small entity orientation and compatibility.

There are approximately 20 handlers of California raisins who are subject to regulation under the order and approximately 4,500 raisin producers in the regulated area. Small agricultural service firms have been defined by the Small Business Administration (13 CFR 121.201) as those having annual receipts of less than $5,000,000, and small agricultural producers are defined as those having annual receipts of less than $500,000. Thirteen of the 20 handlers subject to regulation have annual sales estimated to be at least $5,000,000, and the remaining 7 handlers have sales less than $5,000,000, excluding receipts from any other sources. No more than 7 handlers, and a majority of producers, of California raisins may be classified as small entities.

This final rule changes the reporting requirements specified in paragraphs (b) and (c) of § 989.173 regarding the receipt and disposition, respectively, of raisins produced from grapes grown outside the State of California. Handlers will no longer have to report to the Committee whether such raisins were received as natural condition or packed raisins, nor will handlers have to report whether such raisins were disposed of in cartons, bags or as bulk raisins. Handlers will have to report additional information, specifically, the area of origin (country or state) of such raisins on their disposition reports. Authority for these changes is provided in § 989.73(d) of the order.

Regarding the impact of this action on affected entities, this action will reduce, in the aggregate, the reporting and recordkeeping burden on handlers who receive and dispose of non-California raisins. The Committee estimates that 11 handlers receive and dispose of non-California raisins each year. It is estimated that it will take each handler about 4 minutes to complete each revised receipt report (1 minute less than that required for the current receipt report). The total annual burden for such receipt reports will be reduced from 11 hours to about 8.8 hours. Furthermore, it is estimated that it will take each handler about 5 minutes to complete each revised disposition report (the same as required for the current disposition report). The total annual burden for such disposition reports will remain at about 11 hours.

In accordance with the Paperwork Reduction Act of 1995 (44 U.S.C. Chapter 35), the information collection requirements contained in this final rule have been approved by the Office of Management and Budget. Existing requirements have been assigned OMB No. 0581-0178. As with other similar marketing order programs, reports and forms are periodically reviewed to reduce information requirements and duplication by industry and public sector agencies. Finally, the Department has not identified any relevant Federal rules that duplicate, overlap or conflict with this rule.

An alternative to this action would be to not make the recommended reporting changes. However, the Committee determined that it was best to proceed with its recommendation to reduce the reporting burden on handlers and obtain better information on tracking non-California raisins.

In addition, the Committee held an Administrative Issues Subcommittee meeting on November 9, 1999, where this issue was deliberated. This meeting and the Committee's meeting on November 10, 1999, were public meetings widely publicized throughout the raisin industry. All interested persons were invited to attend the meetings and participate in the industry's deliberations.

A proposed rule concerning this action was published in the Federal Register on December 10, 1999 (64 FR 69204). Copies of the rule were mailed by the Committee staff to all Committee members and alternates, the Raisin Bargaining Association, handlers, and dehydrators. In addition, the rule was made available through the Internet by the Office of the Federal Register. That rule provided for a 60-day comment period which ended February 8, 2000. No comments were received.

A small business guide on complying with fruit, vegetable, and specialty crop marketing agreements and orders may be viewed at the following web site: http://www.ams.usda.gov/fv/moab.html. Any questions about the compliance guide should be sent to Jay Guerber at the previously mentioned address in the FOR FURTHER INFORMATION CONTACT section.

After consideration of all relevant matter presented, including the information and recommendation submitted by the Committee and other available information, it is hereby found that this rule, as hereinafter set forth, will tend to effectuate the declared policy of the Act.

List of Subjects in 7 CFR Part 989

Grapes, Marketing agreements, Raisins, Reporting and recordkeeping requirements.

For the reasons set forth in the preamble, 7 CFR part 989 is amended as follows:

PART 989—RAISINS PRODUCED FROM GRAPES GROWN IN CALIFORNIA

1. The authority citation for 7 CFR part 989 continues to read as follows:

Authority: 7 U.S.C. 601-674.

2. In § 989.173, the second sentence in paragraph (b)(7) and paragraph (c)(3)(iv) are revised to read as follows:

§ 989.173 Reports.

* * * * *

(b) * * *

(7) * * * This report shall include: The varietal type of raisins received; the net weight (pounds) of raisins received for the current month as well as a cumulative quantity from August 1; and the state or country where the raisins were produced. * * *

(c) * * *

(3) * * *

(iv) The area of origin (state or country) of the raisins shipped.

* * * * *

Dated: March 16, 2000.
Robert C. Keeney,
Deputy Administrator, Fruit and Vegetable Programs.

[FR Doc. 00-7084 Filed 3-21-00; 8:45 am]

BILLING CODE 3410-02-P